DEPARTMENT OF COMMERCE

National Oceanic and Atmospheric Administration

RIN 0648-XD831

Western Pacific Fishery Management Council; Public Meetings

AGENCY: National Marine Fisheries Service (NMFS), National Oceanic and Atmospheric Administration (NOAA), Commerce.

ACTION: Notice of public meeting.

SUMMARY: The Western Pacific Fishery Management Council (Council) will hold a meeting of its Scientific and Statistical Committee (SSC) subcommittee to review and discuss the revisions of false killer whale stock boundaries and bycatch proration method for incidental take in the Hawaii longline fishery.

DATES: The SSC subcommittee meeting will be held on March 31, 2015 at 1 p.m.

ADDRESSES: The SSC subcommittee meeting will be held at the Council office, 1164 Bishop Street, Suite 1400, Honolulu, HI 96813; telephone: (808) 522-8220.

FOR FURTHER INFORMATION CONTACT: Kitty M. Simonds, Executive Director; telephone: (808) 522-8220.

SUPPLEMENTARY INFORMATION: Public comment opportunity will be provided. The order in which agenda items are addressed may change. The meetings will run as late as necessary to complete scheduled business.

Schedule and Agenda for the SSC Subcommittee Meeting

1. Welcome and Introductions

2. Approval of the Agenda

3. False Killer Whale Stock Boundary and Bycatch Proration

A. Revised Stock Boundaries for False Killer Whales in Hawaiian Waters

B. Revised Bycatch Proration

C. Discussions

4. Public Comment

5. Discussion and Recommendations

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 13, 2015.
Tracey L. Thompson,
Acting Deputy Director, Office of Sustainable Fisheries, National Marine Fisheries Service.

[FR Doc. 2015-06200 Filed 3-17-15; 8:45 am]

BILLING CODE 3510-22-P